DEPARTMENT OF ENERGY

Federal Energy Regulatory Commission

[Project No. 7320-042]

Erie Boulevard Hydropower, L.P.; Notice of Application Tendered for Filing With the Commission, Soliciting Additional Study Requests, and Establishing Procedural Schedule for Relicensing and a Deadline for Submission of Final Amendments

Take notice that the following hydroelectric application has been filed with the Commission and is available for public inspection.

a. Type of Application: New Major License.

b. Project No.: 7320-042.

c. Date Filed: July 1, 2013.

d. Applicant: Erie Boulevard Hydropower, L.P.

e. Name of Project: Chasm Hydroelectric Project.

f. Location: On the Salmon River, in Franklin County, New York. No federal lands are occupied by the project works or located within the project boundary.

g. Filed Pursuant to: Federal Power Act 16 U.S.C .791 (a)-825(r).

h. Applicant Contact: Steven Murphy, Compliance Specialist, Brookfield Renewable Power—New York West Operations, 33 West 1st Street South, Fulton, NY, 13069; (315) 589-6130; email—steven.murphy@brookfieldpower.com.

i. FERC Contact: John Mudre at (202) 502-8902; or email at john.mudre@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 30, 2013.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, contact FERC Online Support at FERCOnlineSupport@ferc.gov or toll-free at 1-866-208-3676, or for TTY, (202) 502-8659. Although the Commission strongly encourages electronic filing, documents may also be paper-filed. To paper-file, mail an original and five copies to: Kimberly D. Bose, Secretary, Federal Energy Regulatory Commission, 888 First Street, NE., Washington, DC 20426.

m. This application is not ready for environmental analysis at this time.

n. The existing Chasm Project consists of: (1) A 201-foot-long, 32-foot-high maximum height concrete gravity-type dam having a spillway section with crest elevation 1,283.8 feet mean sea level (msl). about 100 feet long, surmounted by 2-foot-high flashboards and having an intake section with steel trash racks and headgates; (2) a reservoir having a surface area of about 22 acres and a gross storage capacity of 74 acre-feet at normal pool elevation of 1,285.8 feet msl; (3) a 7-foot-diameter welded steel pipeline approximately 3,355 feet in length connecting to a 6-foot-diameter steel manifold pipeline just upstream of the powerhouse; (4) a powerhouse containing three Francis-type generating units having a total rated capacity of 3,350 kilowatts operated under a 268-foot head and at a flow of 195 cubic feet per second; (5) a 20-foot-wide, 850-foot-long tailrace; (6) a 4.2-megavolt ampere, 2.4/34.5- kilovolt (kV) transformer; (7) a 410-foot-long, 34.5-kV transmission line; and (8) appurtenant facilities.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary Hydro Licensing Schedule. Revisions to the schedule will be made as appropriate.

Issue Notice of Acceptance | August 2013.
Issue Scoping Document 1 for comments | September 2013.
Scoping Meetings and Environmental Site Review | October 2013.
Comments on Scoping Document 1 | November 2013.
Issue Scoping Document 2 | December 2003.
Issue Additional Information Request (if needed) | December 2013.
Issue notice of ready for environmental analysis | January 2014.
Commission issues draft EA | May 2014.
Comments on draft EA due | June 2014.
Commission issues final EA | October 2014.

Final amendments to the application must be filed with the Commission no later than 30 days from the issuance date of the notice of ready for environmental analysis.

Dated: July 12, 2013.
Kimberly D. Bose,
Secretary.

[FR Doc. 2013-17288 Filed 7-18-13; 8:45 am]

BILLING CODE 6717-01-P